DEPARTMENT OF STATE

[Public Notice: 10828]

30-Day Notice of Proposed Information Collection: Office of Language Services Contractor Application; Correction

ACTION: Notice of request for public comment and submission to OMB of proposed collection of information; correction.

SUMMARY: The Department of State published a Federal Register Notice on July 17, 2019 that incorrectly identified this collection request. The Notice type of request was an “Extension of a Currently Approved Collection”. This document corrects the “Type of Request” to a “Revision of a Currently Approved Collection”.

FOR FURTHER INFORMATION CONTACT: Direct requests for additional information regarding the collection listed in this notice, including requests for copies of the proposed collection instrument and supporting documents, to Wanda Lyles Howell, who may be reached on 202-261-8791 or at lyleswm2@state.gov.

Correction

In the Federal Register, published on July 16, 2019, in FR Doc. 2019-15042, on page 34042, in the first column, the correct “Type of Request” is a “Revision of a Currently Approved Collection”.

Katherine H. Yemelyanov,
Acting Director.

[FR Doc. 2019-16180 Filed 7-29-19; 8:45 am]

BILLING CODE 4710-24-P